DEPARTMENT OF LABOR

Employment and Training Administration

Comment Request for Information Collection for Guam Military Base Realignment Contractor Recruitment Standards, Extension With Revisions

AGENCY: Employment and Training Administration (ETA), Labor.

ACTION: Notice.

SUMMARY: The Department of Labor (Department), as part of its continuing effort to reduce paperwork and respondent burden conducts a preclearance consultation program to provide the general public and Federal agencies with an opportunity to comment on proposed and/or continuing collections of information in accordance with the Paperwork Reduction Act of 1995 [44 U.S.C. 3506(c)(2)(A)] (PRA). The PRA helps ensure that respondents can provide requested data in the desired format with minimal reporting burden (time and financial resources), collection instruments are clearly understood and the impact of collection requirements on respondents can be properly assessed.

Currently, ETA is soliciting comments concerning the extension of the collection of data for the Guam Military Base Realignment Contractor Recruitment Standards, which expires on September 30, 2015.

DATES: Submit written comments to the office listed in the addresses section below on or before June 22, 2015.

ADDRESSES: Send written comments to Pamela Frugoli, Office of Workforce Investment, Room C4526, Employment and Training Administration, U.S. Department of Labor, 200 Constitution Avenue, NW., Washington, DC 20210. Telephone number: 202-693-3643 (This is not a toll-free number). Individuals with hearing or speech impairments may access the telephone number above via TTY by calling the toll-free Federal Information Relay Service at 1-877-889-5627 (TTY/TDD). Fax: 202-693-3015, email: Frugoli.pam@dol.gov. To obtain a copy of the proposed information collection request (ICR, please contact the person listed above.

SUPPLEMENTARY INFORMATION:

I. Background

The Military Construction Authorization Act, as amended by the National Defense Authorization Act for Fiscal Year 2010, prohibits contractors engaged in construction projects related to the realignment of U.S. military forces from Okinawa to Guam from hiring workers holding H-2B visas under the Immigration and Nationality Act, 8 U.S.C. 1101(a)(15)(H)(ii)(b), unless the Governor of Guam (Governor), in consultation with the Secretary of Labor (Secretary), certifies that: (1) There is an insufficient number of U.S. workers that are able, willing, qualified, and available to perform the work; and (2) that the employment of workers holding H-2B visas will not have an adverse effect on either the wages or the working conditions of workers in Guam.

In order to allow the Governor to make this certification, the NDAA requires contractors to recruit workers in the U.S., including in Guam, the Commonwealth of the Northern Mariana Islands, American Samoa, the U.S. Virgin Islands, and Puerto Rico, according to the terms of a recruitment plan developed and approved by the Secretary. This recruitment plan was published as a set of Contractor Recruitment Standards in the Federal Register on January 8, 2013 (78 FR 1256) and is available at: https://www.federalregister.gov/articles/2013/01/08/2013-00114/guam-military-base-realignment-contractor-recruitment-standards. Under the NDAA, no Guam base realignment construction project work may be performed by a person holding an H-2B visa under the Immigration and Nationality Act until the contractor complies with the Department's Contractor Recruitment Standards and the Governor of Guam issues a certification of that compliance.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension without revisions.

Title: Guam Military Base Realignment Contractor Recruitment Standards.

OMB Number: 1205-0484.

Affected Public: Private sector businesses or other for-profits.

Estimated Total Annual Respondents: 5.

Estimated Total Annual Responses: 110.

Estimated Total Annual Burden Hours: 330.

Estimated Total Annual Other Costs Burden: 0.

We will summarize and/or include in the request for OMB approval of the ICR, the comments received in response to this comment request; they will also become a matter of public record.

Portia Wu,
Assistant Secretary for Employment and Training, Labor.

[FR Doc. 2015-09480 Filed 4-22-15; 8:45 am]

BILLING CODE 4510-FN-P